ENVIRONMENTAL PROTECTION AGENCY

40 CFR Part 262

[EPA-HQ-OLEM-2021-0609; FRL-7308-04-OLEM]

RIN 2050-AH12

Integrating e-Manifest With Hazardous Waste Exports and Other Manifest-Related Reports, PCB Manifest Amendments, and Technical Corrections; Correction

AGENCY: Environmental Protection Agency (EPA).

ACTION: Final rule; correction.

SUMMARY: The Environmental Protection Agency (EPA) or (the Agency) is making four minor corrections to a final rule that appeared in the Federal Register on July 26, 2024. The final rule related to regulatory changes to incorporate export manifests and other manifest-related reports (i.e., Discrepancy, Exception, and Unmanifested Waste Reports) into e-Manifest as well as other changes related to manifests, including for polychlorinated biphenyls under the Toxic Substances Control Act.

DATES: This final rule is effective on January 22, 2025.

ADDRESSES: The EPA has established a docket for this action under Docket ID No. EPA-HQ-OLEM-2021-0609. All documents in the docket are listed on the https://www.regulations.gov website. Although listed in the index, some information is not publicly available, e.g., CBI or other information whose disclosure is restricted by statute. Certain other material, such as copyrighted material, is not placed on the internet and will be publicly available only in hard copy form. Publicly available docket materials are available electronically through https://www.regulations.gov.

FOR FURTHER INFORMATION CONTACT: Bryan Groce, Program Implementation and Information Division, Office of Resource Conservation and Recovery, Environmental Protection Agency; (202) 566-0339; email address: groce.bryan@epa.gov or David Graham, Program Implementation and Information Division, Office of Resource Conservation and Recovery, Environmental Protection Agency; (202) 566-2847; email address: graham.david@epa.gov. In addition, please refer to EPA's e-Manifest web page for further information: www.epa.gov/e-manifest.

SUPPLEMENTARY INFORMATION: This action corrects four minor errors to certain regulatory amendments established in the July 26, 2024, final rule (89 FR 60692) for 40 CFR 262.21, 262.42, and 262.83.

With respect to the regulatory amendments at § 262.21, the July 26 final rule established revised printing specification requirements at § 262.21(f)(6) and (7) for the new four-copy paper manifest (EPA Form 8700-22) and continuation sheet (EPA Form 8700-22A) forms. Section 262.21(f)(6) describes the revised copy distribution requirements to be printed on each copy of the new four-copy manifest (EPA-Form 8700-22) and continuation sheet (EPA Form 8700-22A). Section 262.21(f)(7) describes the revised printing specifications for printing the appropriate manifest instructions on the back of the form copies. Although, EPA finalized the manifest forms themselves by revising the wording of the distribution scheme in the bottom right margins of the forms and by moving the instructions on the reverse side of Page 2 (“Designated Facility to Generator” copy) to the reverse side of Page 1 (top copy) of the manifest forms, EPA inadvertently did not make these conforming changes in the regulatory text at § 262.21(f)(6) and (7). This includes adding two instances of “U.S.” to the Page 1 (top copy) text and making changes for use of capitalization in Pages 1-4. To correct these errors, this action revises paragraph § 262.21(f)(6) so that the words indicating copy distribution exactly match the words shown at the bottom right margin of each copy of the new four-copy manifest forms. Similarly, and in addition, this action corrects § 262.21(f)(7) to match the language on the new four-copy manifest form—i.e., to require that commercial printers authorized by EPA to produce the manifest forms print the instructions for designated facilities and hazardous waste exporters on the reverse side of the top copy of the manifest forms instead of the reverse side of Page 2. This includes changing the title of the manifest instructions for the top copy of Manifest Form 8700-22 and 8700-22A from “Instructions for Treatment, Storage, and Disposal Facilities” to “Instructions for Exporters or Owners and Operators of Receiving Facilities Designated on the Manifest.”

With respect to the errors in §§ 262.42 and 262.83, this action corrects errors to certain instructions in part 262 which established regulatory revisions and additions, or both, to the hazardous waste exception reporting requirements at § 262.42 and to the requirements for export shipments of hazardous waste at § 262.83. The corrections to §§ 262.42 and 262.83 are necessary to ensure that certain regulatory amendments established in the July 26 final rule under part 262 are codified accurately and correctly in title 40 of the Code of Federal Regulations.

The EPA is not providing a public comment opportunity prior to promulgation of today's technical corrections to §§ 262.21(f)(6) and (7), 262.42, and 262.83, nor is the EPA issuing a direct final rulemaking. That is because such public comment is unnecessary under 5 U.S.C. 553(b)(B) of the Administrative Procedure Act (APA). The corrections established in this action today are very minor and non-substantive technical corrections to regulations; thus, the corrections would not substantively alter the regulations established in the final rule in a way that would be of interest to the regulated community or the public. Therefore, pursuant to 5 U.S.C. 553(b)(B) of the Administrative Procedure Act (APA), the EPA finds good cause to promulgate these technical corrections without notice and comment because it would be unnecessary.

Corrections

In FR Doc. 2024-14694 appearing at 89 FR 60692 in the Federal Register of Friday, July 26, 2024, the following corrections are made:

§ 262.21 [Corrected]

1. On page 60725, in the third column, in § 262.21:

a. Paragraph (f)(6)(i)) is corrected to read: “(i) Page 1 (top copy): “U.S. Designated Facility or U.S. Exporter to the EPA's e-Manifest System”;”;

b. Paragraph (f)(6)(ii) is corrected to read: “(ii) Page 2: “Designated Facility to Generator”;”;

c. Paragraph (f)(6)(iii), is corrected to read: “(iii) Page 3: “Transporter Copy”; and”;

d. Paragraph (f)(6)(iv), is corrected to read: “(iv) Page 4 (bottom copy): “Generator's Initial Copy”.”;

e. Paragraph (f)(7)(i)(C) is corrected to read: “(C) The “Instructions for Exporters or Owners and Operators of Receiving Facilities Designated on the Manifest” on Top Copy (Page 1).”;

f. Paragraph (f)(7)(ii)(C) is corrected to read: “(C) The “Instructions for Exporters or Owners and Operators of Receiving Facilities Designated on the Manifest” on Top Copy (Page 1).”.

§ 262.42 [Corrected]

2. On page 60726, in the first column instruction 11.d. is corrected to read: “d. Revising paragraph (c)(2) and adding paragraph (d).”.

§ 262.83 [Corrected]

3. On page 60726, in the second column, instruction 12.a. is corrected to read: “a. Revising the introductory text of paragraph (a)(6), paragraphs (b)(1)(i) through (iv), and (b)(3);”.

Barry N. Breen,
Principal Deputy Assistant Administrator, Office of Land and Emergency Management.

[FR Doc. 2024-25370 Filed 10-30-24; 8:45 am]

BILLING CODE 6560-50-P